DEPARTMENT OF HOMELAND SECURITY

Federal Emergency Management Agency

[Docket ID FEMA-2023-0002; Internal Agency Docket No. FEMA-B-2391]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Deputy Assistant Administrator for Risk Management, Federal Emergency Management Agency, Department of Homeland Security

State and county | Location and case No. | Chief executive officer of community | Community map repository | Online location of letter of map revision | Date of modification | Community No.
Alabama: Autauga | City of Prattville (23-04-1024P). | The Honorable Bill Gillespie, Jr., Mayor, City of Prattville, 101 West Main Street, Prattville, AL 36067. | City Hall, 102 West Main Street, Prattville, AL 36067. | https://msc.fema.gov/portal/advanceSearch. | Dec. 26, 2023 | 010002
Colorado:
Adams | City of Aurora (22-08-0792P). | The Honorable Mike Coffman, Mayor, City of Aurora, 15151 East Alameda Parkway, Aurora, CO 80012. | Public Works Department, 15151 East Alameda Parkway, Suite 3200, Aurora, CO 80012. | https://msc.fema.gov/portal/advanceSearch. | Dec. 15, 2023 | 080002
Adams | City of Federal Heights (23-08-0183P). | The Honorable Linda S. Montoya, Mayor, City of Federal Heights, 2380 West 90th Avenue, Federal Heights, CO 80260. | City Hall, 2380 West 90th Avenue, Federal Heights, CO 80260. | https://msc.fema.gov/portal/advanceSearch. | Jan. 12, 2024 | 080240
Adams | Unincorporated areas of Adams County (22-08-0792P). | Steve O'Dorisio, Chair, Adams County Board of Commissioners, 4430 South Adams County Parkway, Brighton, CO 80601. | Adams County Community and Economic Development, 4430 South Adams County Parkway, Brighton, CO 80601. | https://msc.fema.gov/portal/advanceSearch. | Dec. 15, 2023 | 080001
El Paso | Unincorporated areas of El Paso County (23-08-0623X). | Cami Bremer, Chair, El Paso County Board of Commissioners, 200 South Cascade Avenue, Suite 100, Colorado Springs, CO 80903. | Pikes Peak Regional Building Department, Floodplain Management Office, 2880 International Circle, Colorado Springs, CO 80910. | https://msc.fema.gov/portal/advanceSearch. | Jan. 29, 2024 | 080059
Florida:
Charlotte | Unincorporated areas of Charlotte County (23-04-3477P). | Bill Truex, Chair, Charlotte County Board of Commissioners, 18500 Murdock Circle, Suite 536, Port Charlotte, FL 33948. | Charlotte County Building Department, 18400 Murdock Circle, Port Charlotte, FL 33948. | https://msc.fema.gov/portal/advanceSearch. | Feb. 20, 2024 | 120061
Duval | City of Jacksonville (23-04-1483P). | The Honorable Donna Deegan, Mayor, City of Jacksonville, 117 West Duval Street, Jacksonville, FL 32202. | City Hall, 117 West Duval Street, Suite 400, Jacksonville, FL 32202. | https://msc.fema.gov/portal/advanceSearch. | Dec. 21, 2023 | 120077
Lee | Unincorporated areas of Lee County (23-04-3477P). | Dave Harner, Manager, Lee County, P.O. Box 398, Fort Myers, FL 33901. | Lee County Community Development Department, 1500 Monroe Street, Fort Myers, FL 33901. | https://msc.fema.gov/portal/advanceSearch. | Feb. 20, 2024 | 125124
Manatee | Unincorporated areas of Manatee County (23-04-3710P). | Lee Washington, Manatee County Administrator, 1112 Manatee Avenue West, Bradenton, FL 34205. | Manatee County Administration Building, 1112 Manatee Avenue West, Bradenton, FL 34205. | https://msc.fema.gov/portal/advanceSearch. | Feb. 29, 2024 | 120153
Monroe | Unincorporated areas of Monroe County (23-04-5435P). | The Honorable Craig Cates, Mayor, Monroe County Board of Commissioners, 500 Whitehead Street, Suite 102, Key West, FL 33040. | Monroe County Building Department, 2798 Overseas Highway, Suite 300, Marathon, FL 33050. | https://msc.fema.gov/portal/advanceSearch. | Feb. 28, 2024 | 125129
Monroe | Unincorporated areas of Monroe County (23-04-5436P). | The Honorable Craig Cates, Mayor, Monroe County Board of Commissioners, 500 Whitehead Street, Suite 102, Key West, FL 33040. | Monroe County Building Department, 2798 Overseas Highway, Suite 300, Marathon, FL 33050. | https://msc.fema.gov/portal/advanceSearch. | Feb. 29, 2024 | 125129
Monroe | Unincorporated areas of Monroe County (23-04-5437P). | The Honorable Craig Cates, Mayor, Monroe County Board of Commissioners, 500 Whitehead Street, Suite 102, Key West, FL 33040. | Monroe County Building Department, 2798 Overseas Highway, Suite 300, Marathon, FL 33050. | https://msc.fema.gov/portal/advanceSearch. | Feb. 28, 2024 | 125129
Monroe | Village of Islamorada (23-04-5402P). | The Honorable Joseph Buddy Pinder III, Mayor, Village of Islamorada, 86800 Overseas Highway, Islamorada, FL 33036. | Building Department, 86800 Overseas Highway, Islamorada, FL 33036. | https://msc.fema.gov/portal/advanceSearch. | Feb. 26, 2024 | 120424
Orange | City of Orlando (23-04-3675P). | The Honorable Buddy Dyer, Mayor, City of Orlando, 400 South Orange Avenue, Orlando, FL 32801. | Public Works Department, Engineering Division, 400 South Orange Avenue, 8th Floor, Orlando, FL 32801. | https://msc.fema.gov/portal/advanceSearch. | Feb. 26, 2024 | 120186
Kentucky: Marshall | Unincorporated areas of Marshall County 23-04-0278P). | The Honorable Kevin Spraggs, Marshall County Judge, 1101 Main Street, Benton, KY 42025. | Marshall County Information Technology Department, 1101 Main Street, Benton, KY 42025. | https://msc.fema.gov/portal/advanceSearch. | Jan. 12 , 2024 | 210252
Massachusetts:
Essex | City of Haverhill (22-01-1004P). | The Honorable James J. Fiorentini, Mayor, City of Haverhill, 4 Summer Street, Room 100, Haverhill, MA 01830. | Engineering Division, 4 Summer Street, Room 300, Haverhill, MA 01830. | https://msc.fema.gov/portal/advanceSearch. | Feb. 2, 2024 | 250085
Essex | Town of Groveland (22-01-1004P). | Daniel MacDonald, Chair, Town of Groveland Board of Selectmen, 183 Main Street, Groveland, MA 01834. | Economic Development Planning and Conservation Department, 183 Main Street, Groveland, MA 01834. | https://msc.fema.gov/portal/advanceSearch. | Feb. 2, 2024 | 250083
Essex | Town of West Newbury (22-01-1004P). | Angus Jennings, Town of West Newbury Manager, 381 Main Street, West Newbury, MA 01985. | Town Hall, 381 Main Street, West Newbury, MA 01985. | https://msc.fema.gov/portal/advanceSearch. | Feb. 2, 2024 | 250108
South Carolina: Jasper | City of Hardeeville (22-04-2011P). | The Honorable Harry Williams, Mayor, City of Hardeeville, 205 Main Street, Hardeeville, SC 29927. | City Hall, 205 Main Street, Hardeeville, SC 29927. | https://msc.fema.gov/portal/advanceSearch. | Feb. 1, 2024 | 450113
Tennessee:
Hickman | Unincorporated areas of Hickman County (23-04-1242P). | The Honorable Jim Bates, Mayor, Hickman County, 114 North Central Avenue, Suite 204, Centerville, TN 37033. | Hickman County Administration Building, 114 North Central Avenue, Suite 101, Centerville, TN 37033. | https://msc.fema.gov/portal/advanceSearch. | Jan. 19, 2024 | 470091
Maury | Unincorporated areas of Maury County (23-04-1242P). | The Honorable Sheila K. Butt, Mayor, Maury County, 41 Public Square, Columbia, TN 38401. | Maury County Walter Harlan Building, 5 Public Square, Columbia, TN 38401. | https://msc.fema.gov/portal/advanceSearch. | Jan. 19, 2024 | 470123
Obion | Unincorporated areas of Obion County (23-04-1092P). | The Honorable Steve Carr, Mayor, Obion County, 316 South 3rd Street, Union City, TN 38261. | Obion County Department of Emergency Management, 1700 North 5th Street, Union City, TN 38261. | https://msc.fema.gov/portal/advanceSearch. | Jan. 25, 2024 | 470361
Texas:
Collin | City of Plano (23-06-1596P). | The Honorable John B. Muns, Mayor, City of Plano, 1520 K Avenue, Plano, TX 75074. | Engineering Department, 1520 K Avenue, Plano, TX 75074. | https://msc.fema.gov/portal/advanceSearch. | Feb. 26, 2024 | 480140
Denton | City of The Colony (23-06-1976P). | The Honorable Richard Boyer, Mayor, City of The Colony, 6800 Main Street, The Colony, TX 75056. | Engineering Department, 6800 Main Street, The Colony, TX 75056. | https://msc.fema.gov/portal/advanceSearch. | Jan. 29, 2024 | 481581
Midland | City of Midland (23-06-1603P). | The Honorable Lori Blong, Mayor, City of Midland, 300 North Loraine Street, Midland, TX 79701. | City Hall, 300 North Loraine Street, 5th Floor, Midland, TX 79701. | https://msc.fema.gov/portal/advanceSearch. | Feb. 20, 2024 | 480477
Tarrant | City of Arlington (23-06-1165P). | The Honorable Jim Ross, Mayor, City of Arlington, P.O. Box 90231, Arlington, TX 76004. | Public Works Department, 101 West Abram Street, Arlington, TX 76010. | https://msc.fema.gov/portal/advanceSearch. | Feb. 26 , 2024 | 485454
Tarrant | City of Fort Worth (23-06-1609P). | The Honorable Mattie Parker, Mayor, City of Fort Worth, 200 Texas Street, Fort Worth, TX 76102. | Transportation and Public Works Department, Engineering Vault, 200 Texas Street, Fort Worth, TX 76102. | https://msc.fema.gov/portal/advanceSearch. | Feb. 20, 2024 | 480596
Webb | Unincorporated areas of Webb County (23-06-0352P). | The Honorable Tano E. Tijerina, Webb County Judge, 1000 Houston Street, 3rd Floor, Laredo, TX 78040. | Webb County Planning Department, 1110 Washington Street, Suite 302, Laredo, TX 78040. | https://msc.fema.gov/portal/advanceSearch. | Dec. 21, 2023 | 481059
Utah: Salt Lake | City of Riverton (23-08-0038P). | The Honorable Trent Staggs, Mayor, City of Riverton, 12830 South Redwood Road, Riverton, UT 84065. | City Hall, 12830 South Redwood Road, Riverton, UT 84065. | https://msc.fema.gov/portal/advanceSearch. | Jan. 18, 2024 | 490104

[FR Doc. 2023-27349 Filed 12-12-23; 8:45 am]

BILLING CODE 9110-12-P